DEPARTMENT OF COMMERCE

Foreign-Trade Zones Board

[Order No. 1843]

Reorganization of Foreign-Trade Zone 183 Under Alternative Site Framework; Austin, TX

Pursuant to its authority under the Foreign-Trade Zones Act of June 18, 1934, as amended (19 U.S.C. 81a-81u), the Foreign-Trade Zones Board (the Board) adopts the following Order:

Whereas, the Board adopted the alternative site framework (ASF) (74 FR 1170-1173, January 12, 2009; correction 74 FR 3987, January 22, 2009; 75 FR 71069-71070, November 22, 2010) as an option for the establishment or reorganization of general-purpose zones;

Whereas, the Foreign-Trade Zone of Central Texas, Inc., grantee of Foreign-Trade Zone 183, submitted an application to the Board (FTZ Docket 8-2012, filed February 09, 2012) for authority to reorganize under the ASF with a service area of Bastrop, Caldwell, Hays, Travis and Williamson Counties, Texas, within and adjacent to the Austin Customs and Border Protection port of entry, and FTZ 183's existing Sites 1 through 24 would be categorized as magnet sites;

Whereas, notice inviting public comment was given in the Federal Register (77 FR 8806, February 15, 2012) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to reorganize FTZ 183 under the alternative site framework is approved, subject to the FTZ Act and the Board's regulations, including Section 400.13, to the Board's standard 2,000-acre activation limit for the overall general-purpose zone project, and to a five-year ASF sunset provision for magnet sites that would terminate authority for Sites 1 through 24 if not activated by July 31, 2017.

Signed at Washington, DC, this 23rd day of July 2012.
Paul Piquado,
Assistant Secretary of Commerce for Import Administration, Alternate Chairman, Foreign-Trade Zones Board.
Attest:
Andrew McGilvray,
Executive Secretary.

[FR Doc. 2012-18586 Filed 7-27-12; 8:45 am]

BILLING CODE P